DEPARTMENT OF ENERGY

Federal Energy Regulatory Commission

[Docket No. EL16-64-000]

Notice of Complaint

Belmont Municipal Light Department; Braintree Electric Light Department; Concord Municipal Light Plant; Georgetown Municipal Light Department; Groveland Electric Light Department; Hingham Municipal Lighting Plant; Littleton Electric Light & Water Department; Middleborough Gas & Electric Department; Middleton Electric Light Department; Reading Municipal Light Department; Rowley Municipal Lighting Plant; Taunton Municipal Lighting Plant; Wellesley Municipal Light Plant, v. Central Maine Power Company; Emera Maine (formerly known as Bangor Hydro-Electric Company); Eversource Energy Service Company and its operating company affiliates: The Connecticut Light and Power Company, Western Massachusetts Electric Company, Public Service Company of New Hampshire, and NSTAR Electric Company; New England Power Company d/b/a National Grid; New Hampshire Transmission LLC d/b/a NextEra; The United Illuminating Company; Fitchburg Gas and Electric Light Company; and Vermont Transco, LLC

Take notice that on April 26, 2016, pursuant to sections 206 and 306 of the Federal Power Act ¹ and Rule 206 of the Federal Energy Regulatory Commission's (Commission) Rules of Practice and Procedure,² Belmont Municipal Light Department; Braintree Electric Light Department; Concord Municipal Light Plant; Georgetown Municipal Light Department; Groveland Electric Light Department; Hingham Municipal Lighting Plant; Littleton Electric Light & Water Department; Middleborough Gas & Electric Department; Middleton Electric Light Department; Reading Municipal Light Department; Rowley Municipal Lighting Plant; Taunton Municipal Lighting Plant; Wellesley Municipal Light Plant (Complainants), filed a formal complaint against Central Maine Power Company; Emera Maine (formerly known as Bangor Hydro-Electric Company); Eversource Energy Service Company and its operating company affiliates: The Connecticut Light and Power Company, Western Massachusetts Electric Company, Public Service Company of New Hampshire, and NSTAR Electric Company; New England Power Company; New Hampshire Transmission LLC; The United Illuminating Company; Fitchburg Gas and Electric Light Company; and Vermont Transco, LLC (Respondents). The Complainants are alleging that the current 10.57 percent return on equity used in calculating formula rates for transmission service under the ISO New England, Inc. Open Access Transmission Tariff is excessive and should be reduced, as more fully explained in the complaint.

¹ 16 U.S.C. 791a-828c, 824e, and 825e.

² 18 CFR 385.206.

Complainants certify that copies of the Complaint were served on contacts for Respondents.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 16, 2016.

Dated: May 3, 2016.
Kimberly D. Bose,
Secretary.

[FR Doc. 2016-10786 Filed 5-6-16; 8:45 am]

BILLING CODE 6717-01-P